DEPARTMENT OF THE INTERIOR

Bureau of Land Management

[ID-077-1220-PA]

Notice of Seasonal Road/Trail Closures on Public Lands in Cassia and Twin Falls Counties, Idaho.

AGENCY: Bureau of Land Management, Interior.

SUMMARY: The Bureau of Land Management announces seasonal closure of roads and trails in Twin Falls and Cassia Counties. Each year roads and trails shall have a seasonal closure in crucial wildlife winter range and/or may have temporary conditional closures to minimize resource damage and reduce public safety hazards when traveled by motorized vehicles during wet/muddy conditions. All trails leading from the road identified below shall have seasonal closures consistent with the road closures. Conditional closures are to be activated by the Authorized Officer during wet/muddy conditions. Several requests for the seasonal road/trail closures were received from the public during the comment period on the Indian Springs/North Cottonwood Road Upgrade Environmental Assessment (EA #ID-077-00-031).

Time Periods

Conditional closure for all motorized vehicles during wet/muddy conditions to minimize damage to roads/trails and natural resources will be from December 1 through January 15 and March 16 through May 15. During this time period, roads and trails will remain open if the entire area is dry or frozen.

Firm closure for all motorized vehicles to protect mule deer and sage grouse from disturbance in crucial winter range will be from January 16 through March 15.

Closures, including time periods, will be posted at the entrance to each road.

The Legal Land Descriptions for the Road Closure Are as Follows

The North Cottonwood Creek Road (BLM road #4221), has two entrances, one on the east side and one on the west. There is also an alternate road (BLM road #42163) located between the two entrances to the North Cottonwood Creek Road that starts at the Foothill Road and ties in with the North Cottonwood Creek Road, a distance of approximately 3 miles. The east entrance of North Cottonwood Creek Road closure starts 0.25 miles south of the Foothill Road and goes to the junction at the U. S. Forest Service boundary, a distance of approximately 7 miles. The west entrance to North Cottonwood Road starts at the Foothill Road and goes to the U.S. Forest Service boundary, a distance of approximately 6 miles, and back to the Foothill Road, a loop of approximately 13 miles total. The legal descriptions for the road entrances are T. 12 S., R. 17 E., Section 11 (west entrance), and T. 12 S., R. 18 E., Section 06 (east entrance), and T. 12 S., R. 17 E., Section 02 (alternate road), in Twin Falls County.

The Indian Springs Road (BLM road #4214) closure starts 1.5 miles south of the Foothill Road and goes to the U.S. Forest Service boundary, a distance of approximately 5.5 miles. The road closure starts at T. 12 S., R. 18 E., Section 9 in Twin Falls County. The first 1.5 miles of the Indian Springs Road will remain open, allowing non-motorized trail users access to the two lower parking areas during periods in which closures for motorized vehicles are activated.

The Cherry Springs Road (BLM road #4213), from the Rock Creek Road southwest to its intersection with the Indian Springs Road, just north of the U.S. Forest Service boundary. This is a distance of approximately 6 miles. The road starts at T. 12 S., R. 18 E., Section 02 in Twin Falls County.

Dry Creek Road (BLM road #1610), from the Tugaw Ranch southwest to the U.S. Forest Service boundary, a distance of approximately 7 miles. The road closure starts in T. 12 S., R. 19 E., Section 12, in Cassia County.

No person may use, drive, move, transport, let stand, park, or have charge or control over any type of motorized vehicle on closed routes.

Exceptions to This Order Are Granted to the Following

Law enforcement patrol and emergency services and administratively approved access for actions such as monitoring, research studies, grazing activity, and access to private lands.

Employees of valid right-of-way holders in the course of duties associated with the right-of-way.

Holders of valid lease(s) and/or permit(s) and their employees in the course of duties associated with the lease and/or permit.

Other actions would be considered on a case-by-case basis.

EFFECTIVE DATE: This closure is effective December 1, 2000, and shall remain effective until rescinded by the Authorized Officer.

FOR FURTHER INFORMATION, CONTACT: Theresa M. Hanley, Burley Field Manager, 200 South 15 East, Burley, ID. 83318. Telephone (208) 677-6641. A map showing vehicle routes of travel is available from the Burley BLM Office.

SUPPLEMENTARY INFORMATION: Authority for this closure and restriction order may be found in 43 CFR 8364.1. Violation of this closure is punishable by a fine not to exceed $1000.00 and/or imprisonment not to exceed 12 months.

Dated: November 20, 2000.
Theresa M. Hanley,
Burley Field Manager.

[FR Doc. 00-30510 Filed 11-29-00; 8:45 am]

BILLING CODE 4310-GG-P